DEPARTMENT OF HEALTH AND HUMAN SERVICES

Administration for Children and Families

[CFDA Number: 93.564]

Announcement of the Award of a Single-Source Program Expansion Supplement Grant to the Washington State Department of Social and Health Services in Lacey, WA

AGENCY: Office of Child Support Enforcement, ACF, HHS.

ACTION: Notice of the award of a single-source program expansion supplement grant to the Washington State Department of Social and Health Services in Lacey, WA, to support the development of additional dissemination tools such as reports and web-based trainings on the lessons learned and early findings from the Evaluation of Behavioral Interventions for Child Support Services of the Behavioral Interventions for Child Support Services (BICS) Demonstration.

SUMMARY: The Administration for Children and Families (ACF), Office of Child Support Enforcement (OCSE), Division of Program Innovation, announces the award of a single-source program expansion supplement grant in the amount of $200,000 to the Washington State Department of Social and Health Services in Lacey, WA, to support the development of additional dissemination tools such as reports and web-based trainings on the lessons learned and early findings from the Evaluation of Behavioral Interventions for Child Support Services of the Behavioral Interventions for Child Support Services (BICS) Demonstration.

DATES: The period of support for this supplement is September 30, 2016 through September 29, 2017.

FOR FURTHER INFORMATION CONTACT: Michael Hayes, Senior Programs Manager, Office of Child Support Enforcement, 330 C Street SW., 5th Floor, Washington, DC 20201. Telephone: 202-401-5651; Email: Michael.Hayes@acf.hhs.gov.

SUPPLEMENTARY INFORMATION: In FY 2014, OCSE competitively awarded a cooperative agreement to the Washington State Department of Social and Health Services to conduct a 5-year evaluation of OCSE's national demonstration called Behavioral Interventions for Child Support Services (BICS).

This supplement will allow the Washington State Department of Social and Health Services to develop additional dissemination tools such as reports and web-based trainings on the lessons learned and early findings from the evaluation of Behavioral Interventions for Child Support Services Demonstration.

The cost of the BICS evaluation is higher than originally budgeted because the process mapping and project design phase has been significantly slower than anticipated for the grantees. This led to the need for increased technical assistance to the BICS grantees by the evaluation grantee. Additionally, as a result of the mapping and design phase, OCSE anticipates an increased number of interesting findings that will be of benefit to the greater child support field.

The supplemental funds will allow Washington State Department of Social and Health Services to provide increased technical assistance to the BICS demonstration sites, and support the development of additional dissemination tools such as reports and web-based trainings on the lessons learned and early findings from the Evaluation of BICS.

Specifically, the Washington State Department of Social and Health Services will explore the development of innovative, user-friendly tools such as podcasts and infographics that will provide research findings and learning to the child support community in a way that is easily accessible to interested program administrators and policy officials. These tools will also continue to build the evidence-base in what works in the delivery of child support services.

Statutory Authority: Section 1115 of the Social Security Act authorizes funds for experimental, pilot, or demonstration projects that are likely to assist in promoting the objectives of Part D of Title IV.

Christopher Beach,
Senior Grants Policy Specialist, Division of Grants Policy, Office of Administration.

[FR Doc. 2016-26563 Filed 11-2-16; 8:45 am]

BILLING CODE 4184-42-P